NUCLEAR REGULATORY COMMISSION

FEDERAL EMERGENCY MANAGEMENT AGENCY

Criteria for Preparation and Evaluation of Radiological Emergency Response Plans and Preparedness in Support of Nuclear Power Plants; Draft Addenda to NUREG-0654/FEMA-REP-1, Revision 1,

AGENCIES: Nuclear Regulatory Commission. Federal Emergency Management Agency.

ACTION: Notice of availability and request for comment.

SUMMARY: The Nuclear Regulatory Commission (NRC) and the Federal Emergency Management Agency (FEMA) have issued for public comment the Draft Addenda to NUREG-0654/FEMA-REP-1, Rev. 1, “Criteria for Preparation and Evaluation of Radiological Emergency Response Plans and Preparedness in Support of Nuclear Power Plants.” This NUREG is the basic emergency planning guidance document for radiological emergency planning and preparedness for commercial nuclear power plants and is used by licensees and by State and local government emergency response agencies to develop and maintain radiological emergency plans for nuclear power plants.

DATE: The comment period ends August 1, 2001, of this Federal Register notice.

ADDRESSES: Submit written comments to: Chief, Rules and Directives Branch, Division of Administrative Services, Office of Administration, U.S. Nuclear Regulatory Commission, Washington, DC 20555-0001.

Hand-deliver comments to 11545 Rockville Pike, Rockville, Maryland between 7:15 a.m. and 4:30 p.m. on Federal workdays.

Those considering public comment may request a free single copy of the Draft Addenda to NUREG-0654/FEMA-REP-1, Rev. 1, by writing to: Reproduction and Distribution Services Section, Office of the Chief Information Officer, U.S. Nuclear Regulatory Commission, Washington, DC 20555-0001, or E-mail: DISTRIBUTION@nrc.gov, or Facsimilie: (301) 415-2289.

The Draft Addenda to NUREG-0654/FEMA-REP-1, Rev. 1, also is available electronically by visiting NRC's Home Page (http://www.nrc.gov/NRC/NUREGS/SR0654/R1addenda/index.html) or FEMA's Home Page (http://www.fema.gov/pte/rep/).

A copy of the Draft Addenda to NUREG-0654/FEMA-REP-1, Rev. 1, is available for inspection and copying for a fee in the NRC Public Document Room, 11555 Rockville Pike, Rockville, Maryland, Room O1F21.

FOR FURTHER INFORMATION CONTACT: Kathy Halvey Gibson, Chief, Emergency Preparedness and Health Physics Section, Office of Nuclear Reactor Regulation, U.S. Nuclear Regulatory Commission, Washington, DC 20555-0001, Telephone (301) 415-2910; electronic mail address: khg@nrc.gov or Vanessa E. Quinn, Chief, Radiological Emergency Preparedness Branch, Preparedness, Training, and Exercises Directorate, Federal Emergency Management Agency, Washington, DC 20472, telephone (202) 646-3664; electronic mail address: vanessa.quinn@fema.gov.

SUPPLEMENTARY INFORMATION: This notice announces the availability of and request for comment on the Draft Addenda to NUREG-0654/FEMA-REP-1, Rev. 1, “Criteria for Preparation and Evaluation of Radiological Emergency Response Plans and Preparedness in Support of Nuclear Power Plants.” NUREG-0654/FEMA-REP-1, Rev. 1, was issued in November 1980 and is the basic emergency planning guidance document for radiological emergency planning and preparedness for commercial nuclear power plants.

NUREG-0654/FEMA-REP-1, Rev. 1, is used by licensees and by State and local government emergency response agencies to develop and maintain radiological emergency plans for nuclear power plants. NUREG-0654/FEMA-REP-1, Rev. 1, is also used by staff of the NRC and FEMA to review, respectively, licensee and State and local government radiological emergency plans and preparedness, and to make findings and determinations regarding the adequacy of these plans. As part of FEMA's strategic review of its radiological emergency preparedness program, FEMA and NRC staff determined that it was not necessary to revise NUREG-0654/FEMA-REP-1, Rev. 1, but that to enhance its usefulness, the outdated citations in the document should be replaced with updated citations through means of an addenda. An initial version of the addenda was posted on the FEMA web site and provided to the member agencies of the Federal Radiological Preparedness Coordinating Committee for comment.

Dated at Rockville, Maryland, this 26th day of March 2001.
For the Nuclear Regulatory Commission.
Glenn M. Tracy,
Chief, Operator Licensing, Human Performance, and Plant Support Branch, Office of Nuclear Reactor Regulation, U.S. Nuclear Regulatory Commission.
For the Federal Emergency Management Agency.
Russell Salter,
Director, Chemical and Radiological Preparedness Division, Preparedness, Training and Exercises Directorate, Federal Emergency Management Agency.

[FR Doc. 01-11112 Filed 5-2-01; 8:45 am]

BILLING CODE 7590-01-U